DEPARTMENT OF TRANSPORTATION

Federal Aviation Administration

[Summary Notice No. PE-2002-42]

Petitions for Exemption; Summary of Petitions Received

AGENCY: Federal Aviation Administration (FAA), DOT.

ACTION: Notice of petitions for exemption received and correction.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before July 15, 2002.

ADDRESSES: Send comments on any petition to the Docket Management System, U.S. Department of Transportation, Room Plaza 401, 400 Seventh Street, SW., Washington, DC 20590-0001. You must identify the docket number FAA-200X-XXXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Sandy Buchanan-Sumter, Office of Rulemaking (ARM-1), Federal Aviation Administration, 800 Independence Avenue, SW., Washington, DC 20591. Tel. (202) 267-7271.

This notice is published pursuant to 14 CFR 11.85 and 11.91.

Issued in Washington, DC, on May 20, 2002.
Donald P. Byrne,
Assistant Chief Counsel for Regulations.

Petitions for Exemption

Docket No.: FAA-2002-11565.

Petitioner: Fresh Water Adventures, Inc.

Section of 14 CFR Affected: 14 CFR 135.267(f).

Description of Relief Sought: To permit Fresh Water Adventures, Inc. to provide each flight crewmember at least 13 rest periods of at least 24 consecutive hours each in each 3-month period beginning in February instead of in each calendar quarter.

Correction

Docket No.: FAA-2002-11712.

Petitioner: Franklin P. Toups.

Section of 14 CFR Affected: 14 CFR 61.65(a)(1) and 61.153(d)(1).

Description of Relief Sought: On April 23, 2002, a summary of this petition was published in the Federal Register (67 FR 19795) with the incorrect docket number (FAA-2002-11565). The exemption, if granted, would permit Franklin P. Toups to take a single check ride to obtain his ATP and instrument rating.

Issued in Washington, DC, on May 20, 2002.
Donald P. Byrne,

[FR Doc. 02-15982 Filed 6-24-02; 8:45 am]

BILLING CODE 4910-13-P